DEPARTMENT OF ENERGY

Federal Energy Regulatory Commission

Privacy Act of 1974; System of Records

AGENCY: Federal Energy Regulatory Commission, DOE.

ACTION: Notice of modified system of records.

SUMMARY: In accordance with the Privacy Act of 1974, as amended, the Federal Energy Regulatory Commission (FERC) is modifying the systems of records listed in this notice to incorporate two new routine uses related to the breach of personally identifiable information (PII) pursuant to the Office of Management and Budget (OMB) Memorandum M-17-12. The first routine use deals with the breach of FERC's records, and the second addresses the disclosure of FERC's records to assist other agencies in their efforts to respond to a breach of their own records.

DATES: Please submit comments on or before July 11, 2022. These new routine uses are effective July 11, 2022.

ADDRESSES: Any person interested in commenting on the establishment of these Privacy Act Breach Routine Uses may do so by submitting comments electronically to: Privacy@ferc.gov (include a reference to “Privacy Act Breach Routine Uses” in the subject line of the message.)

FOR FURTHER INFORMATION CONTACT: Mittal Desai, Chief Information Officer & Senior Agency Official for Privacy, Office of the Executive Director, Federal Energy Regulatory Commission, 888 First Street NE, Washington, DC 20426, (202) 502-6432.

SUPPLEMENTARY INFORMATION: On January 3, 2017, the Office of Management and Budget issued Memorandum 17-12, Preparing for and Responding to a Breach of Personally Identifiable Information, to the heads of all executive departments and agencies. Among other things, this memorandum requires the addition of routine uses to ensure that agencies are able to disclose records or information in their systems of records in response to an actual or suspected breach of its own records or to assist other agencies in their efforts to respond to a breach of their own records. FERC is, therefore, proposing the addition of two new routine uses. Unless this or other published notice expressly provides otherwise, these two routines uses apply to all FERC Privacy Act system of records listed in this notice. These routine uses supplement but do not replace any routine uses that are separately published in the specific individual System of Records Notice (SORN). These proposed routine uses are compatible with the purpose for which each of the records or information was collected.

SYSTEM NAME AND NUMBER:

First, the systems of records to be modified by including the two new routine uses described in this Notice are set forth below. As these two routine uses are additional new routine uses, please refer to the specific individual SORN for other routine uses unchanged by this notice. Second, please refer to the specific individual SORN for additional governing elements unchanged by this notice. Finally, please note that FERC SORNs omitted from this table have already incorporated the two new routine uses described in this notice.

SORN No. | SORN name | Federal Register cites
FERC-6 | Biographical Material on FERC Commissioners and Key Staff Members | 65 FR 21743.*
FERC-15 | Commission Labor and Employee Relations Case Files | 65 FR 21743.*
FERC-16 | Commission Death Cases File | 65 FR 21744.*
FERC-17 | Commission Disability Retirements File | 65 FR 21744.*
FERC-18 | Commission Discontinued Service Retirements File | 65 FR 21745.*
FERC-19 | Commission Equal Employment Opportunity (EEO) Discrimination Complaints File | 65 FR 21745.*
FERC-20 | Commission Employee Suggestions File | 65 FR 21746.*
FERC-21 | Commission Training Records | 65 FR 21746.*
FERC-22 | Commission Indebtedness Cases Files | 65 FR 21747.*
FERC-23 | Commission Leave Without Pay Requests File | 65 FR 21747.*
FERC-25 | Commission Office of Workers Compensation Program (OWCP) Claims File | 65 FR 21748.*
FERC-27 | Commission Reconsideration of Retirement Refund Decisions File | 65 FR 21749.*
FERC-28 | Commission Restoration of Annual Leave Requests File | 65 FR 21750.*
FERC-29 | Commission Unemployment Compensation File | 65 FR 21750.*
FERC-30 | Commission Within-Grade Increase (WGI) Denials and Reconsideration File | 65 FR 21750.*
FERC-32 | Commission Fitness Center Records | 65 FR 21751.*
FERC-35 | Commission Security Investigations Records | 65 FR 21752.*
FERC-36 | Management, Administrative, and Payroll System (MAPS) | 65 FR 21753.*
FERC-37 | Commission Voluntary Leave Transfer Files | 65 FR 21753.*
FERC-38 | Commission Employee Performance Files | 65 FR 21754.*
FERC-39 | Commission Temporary Work-at-Home Program | 65 FR 21754.*
FERC-40 | Commission Family Medical Leave Act (FMLA) Request Files | 65 FR 21755.*
FERC-42 | Commission Headquarters Security Access and Control Records | 65 FR 21756.*
FERC-43 | Commission Travel Records | 65 FR 21756.*
FERC-46 | Commission Freedom of Information Act and Privacy Act Request Files | 81 FR 61682.*
FERC-47 | Commission Office of Finance, Accounting and Operations' Recruitment Records | 65 FR 21758.*
FERC-48 | Department of Energy (DOE) Inspector General Investigative Records Relating to the Federal Energy Regulatory Commission | 65 FR 21759.*
FERC-49 | Commission Telecommunications Records | 65 FR 21760.*
FERC-50 | Commission Accounting System Records | 65 FR 21760.*
FERC-51 | Commission Congressional Correspondence, State Files and Constituent Records | 65 FR 21761.*
FERC-52 | Commission Supervisor-Maintained Personnel Records | 65 FR 21761.*
FERC-53 | Information Technology System Log Records | 79 FR 17529.*
FERC-54 | Commission Employee Assistance Program Records | 65 FR 21763.*
FERC-55 | Personal Identity Verification (PIV) Records | 70 FR 61612.*
FERC-57 | Federal Personnel Payroll System (FPPS) | 74 FR 57308.*
FERC-58 | Critical Energy Infrastructure Information (CEII) Records | 79 FR 17530.*
FERC-59 | Enforcement Investigation Records | 79 FR 17531.*
FERC-60 | Hotline Records | 79 FR 17532.*
FERC-61 | Requests for Commission Publications and Information | 79 FR 17532.*
FERC-62 | Public Information Requests | 79 FR 17534.*
FERC-63 | Company Registration Records | 79 FR 17534.*
FERC-64 | Individual Registration Records | 79 FR 17534.*
An asterisk (*) designates the last full Federal Register notice that includes all of the elements that are required to be in a System of Records Notice.

SECURITY CLASSIFICATION:

Unclassified.

SYSTEM LOCATION:

The applicable program executive is identified in each notice.

SYSTEM MANAGER(S):

The applicable system manager(s) is identified in each notice.

* * * * *

ROUTINE USES OF RECORDS MAINTAINED IN THE SYSTEM, INCLUDING CATEGORIES OF USERS AND PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) as follows:

• To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

• To another Federal agency or Federal entity, when FERC determines that information from this system of records is reasonably necessary to assist the recipient agency or entity in: (1) responding to a suspected or confirmed breach; or (2) preventing, minimizing, or remedying the risk of harm to individuals, the recipient agency or entity (including its information systems, programs, and operations), the Federal Government, or national security, resulting from a suspected or confirmed breach.

HISTORY:

See System Name and Number above.

Dated: June 6, 2022.
Kimberly D. Bose,
Secretary.

[FR Doc. 2022-12546 Filed 6-9-22; 8:45 am]

BILLING CODE 6717-01-P